DEPARTMENT OF HEALTH AND HUMAN SERVICES

Meeting of the Presidential Advisory Council on HIV/AIDS; Correction

AGENCY: Office of the Assistant Secretary for Health, Office of the Secretary, Department of Health and Human Services.

ACTION: Notice; Correction.

SUMMARY: The Department of Health and Human Services published a notice in the Federal Register of May 11, 2011 to announce a meeting of the Presidential Advisory Council on HIV/AIDS that will be held on Thursday, May 26, 2011, and Friday, May 27, 2011. The meeting is to be held from 10 a.m. to approximately 5 p.m. on May 26, 2011, and from 9 a.m. to approximately 3 p.m. on May 27, 2011. The meeting is scheduled to be held in the Department of Health and Human Services; Room 705A Hubert H. Humphrey Building; 200 Independence Avenue, SW.; Washington, DC 20201. The meeting dates have been changed.

FOR FURTHER INFORMATION CONTACT: Mr. Melvin Joppy, Committee Manager, Presidential Advisory Council on HIV/AIDS; Phone: (202) 690-5560. More detailed information about PACHA can be obtained by accessing the Council's Web site at http://www.pacha.gov.

Correction

In the Federal Register of May 11, 2011, FR Doc. 2011-11542, on page 27323, in the first column, correct the DATES caption to read:

DATES: Thursday, May 26, 2011, from 10 a.m. to approximately 5 p.m.

Dated: May 19, 2011.
Christopher H. Bates,
Executive Director, Presidential Advisory Council on HIV/AIDS.

[FR Doc. 2011-12936 Filed 5-26-11; 8:45 am]

BILLING CODE 4150-43-M